DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Project: Community Support Evaluation (CSE)—New

The Substance Abuse and Mental Health Services Administration (SAMHSA), Center for Mental Health Services (CMHS), is requesting clearance for the new data collection associated with the CSE. The CSE is a multicomponent evaluation of two SAMHSA programs—Behavioral Health Treatment Court Collaborative (BHTCC) and Transforming Lives through Supported Employment (SE). SE intends to promote recovery for individuals with serious mental illness, substance use, and co-occurring mental and substance use disorders. The programs are rooted in the belief that recovery is a holistic process bolstered by trauma-informed care and individual- and community-level support.

The purpose of the CSE is to (1) describe and assess BHTCC and SE grantee activities and procedures, including the intermediate or direct effects of the programs on participants; (2) document the application and sanctioned adaptations of BHTCC programs in the justice system and of the SE Program; and (3) design and implement plans to disseminate knowledge about how to replicate effective projects in other States, territories, tribal nations, and communities. Findings will inform current grantees, policymakers, and the field about ways to transform the behavioral health system to cultivate resiliency and recovery, actively collaborate with and engage, and improve service delivery for individuals with serious mental, substance, and co-occurring disorders who are in recovery.

Eight data collection activities compose the CSE—five for administration with BHTCC program grantees and three to be conducted with SE program grantees.

BHTCC Study Instruments

Biannual Program Inventory (BPI)-BHTCC: The BPI-BHTCC is a Web-based survey that will capture infrastructure development and direct services that are part of the BHTCC programs. Data include the types of planning, infrastructure, and collaboration grantees are implementing; trainings conducted; and direct services offered as part of the program. The BPI will be completed by grantee evaluation staff twice yearly (April and October) over the grant period.

System-Level Assessment (SLA) Key Informant Interviews (KIIs): The SLA KIIs will be conducted with five stakeholders from each BHTCC grantee to assess collaboration strategies to expand or better serve participants; processes for recruiting, screening, and retaining participants; practices to ensure treatment adherence and criminal justice compliance; and involvement of consumers in program planning and implementation. Data include implementation processes/outcomes; service infrastructure, capacity, entry, and delivery processes; management structure; reward and sanction models; trauma-informed practices; collaboration among BHTCC participants; and facilitators and barriers to collaboration. There are three versions of the SLA KIIs: (1) Court personnel (administrators, coordinators, judges, attorneys), (2) service provider (case managers, BHTCC peer specialists), and (3) consumer (clients, family members). Grantee staff will assist with respondent recruitment by collecting consent to contact from potential participants and forwarding the forms to the CSE team. The SLA KIIs will be conducted in grant years two and four via telephone or Skype. The SLA KIIs will cover the same information across years; however, the Year 4 SLA KIIs also will ask for specific plans for future implementation.

Concept Mapping: A total of four concept mapping exercises will be conducted—one local and three cross-site concept maps will be created. All concept mapping exercises will be coordinated at the local level with assistance from the CSE team. Beginning in Year two, each grantee will identify and recruit up to 20 stakeholders (BHTCC peers, consumers, family members of consumers, and court personnel) to participate in the first exercise. Concept mapping will be conducted via a Web-based program; accommodations will be made for respondents who do not have access to computers via telephone or paper/pencil.

Exercise 1—Local Concept Maps: Between Years two and three, each BHTCC grantee will generate a local concept map identifying the priority supports for recovery. The exercise will take place in two parts. First, participants will be asked to brainstorm as many responses as they wish to a focus prompt about system-level change (e.g., one way that this BHTCC collaborative provides support to consumers is . . .). At a later date, local staff will ask participants to sort and rate the full list of responses from the brainstorming activity in “any way that makes sense” to them. Respondents will sort/rate the responses—once for importance and once for frequency—into groups and name them. The resulting information will be entered into Concept System software to generate a local map identifying the most important aspects of the grantee program that support recovery.

Exercise 2—Keys to Recovery (KTR) Map 1: In Year four, up to 20 stakeholders from each BHTCC grantees will participate in a second sorting/rating of local concept mapping information. Grantee staff will develop a list of the most common brainstormed responses to the original local concept mapping exercise. The information will be used to generate a cross-site map on the basis of input from the 17 BHTCC sites.

Exercises 3 and 4—Keys to Recovery Maps 2 and 3: In Year four, two groups of up to five BHTCC grantees with a particular court structure or program focus (e.g., veterans' court and other BHTCC types of court models, such as key recovery supports addressing a specific aspect or type of severe mental illness) will participate in two concept mapping exercises to generate KTR maps. The program focus will be determined after the initial site-specific maps have been analyzed. Up to 20 stakeholders from each participating grantee will engage in brainstorming and sorting/rating activities. Respondents will participate via Web, telephone, or paper/pencil.

18-Month Client Level Abstraction Tool: the 18-Month Tool is an Excel-based tool that collects existing data on long-term client outcomes on recidivism. Data include (1) rearrest dates (from the National Crime Information Center database), (2) recommitment dates (from State departments of corrections and local/county jails and corrections), (3) revocation dates (from State and local corrections), and (4) risk assessment quantitative score. Grantee staff will complete the tool at 18 months from the baseline period for any client enrolled in the BHTCC program. Beginning in year two, grantees will upload all extracted data on a quarterly basis. In their final upload (last month of grant activity), grantees will include data for all clients not currently submitted including those enrolled less than 18 months. The 18-Month Tool will be completed by BHTCC grantee evaluation staff using existing sources. In addition, court staff (e.g., court clerks) from two BHTCC comparison courts will complete the tool for non-BHTCC participants as part of a comparison study.

Comparison Study Client Level Abstraction Tool: the Comparison Study Tool is an Excel-based tool that collects existing data on comparison cases (individuals who are not participating in the BHTCC program but are comparable in program eligibility) at baseline and six months. Baseline data include demographics and status of screening for co-occurring disorders, employment, and probation/parole. Data abstracted through the six-month tool include employment status, probation/parole status, services received (e.g., case management, treatment, medical care, after care, peer-to-peer recovery support, and education) and number of days services were received. Respondents will include court staff (e.g., court clerks) at comparison courts who have regular interaction with clients during their involvement in the justice system. Respondents will complete the tool on the basis of (1) court paperwork and (2) information discussed during regular court-related interactions.

SE Study Instruments

Biannual Program Inventory—SE: The BPI-SE is a Web-based survey that captures the infrastructure development and direct services that are part of the SE programs. Data include the types of planning that SE grantees and local implementation sites are implementing and activities and infrastructure developed as part of the project. The BPI is administered twice yearly (April and October) over the grant period and will be completed by SE grantee program staff.

Scalability/Sustainability Assessment (SSA) KIIs: The SSA KIIs will be conducted with various stakeholders to assess local SE program resources, infrastructure, outcomes, sustainability, and scalability from stakeholders. Data include changes in outcomes, workforce development, State-level collaboration, partnerships and policies, and scalability and sustainability. There are two versions of the SSA KIIs—each is tailored to the intended audience: (1) State-level administrator (project directors, agency directors, SECC members) and (2) local, pilot-level service provider (local service provider). The SSA KIIs will be conducted remotely by telephone and/or Skype technology in years two and four of the evaluation with five stakeholders from each SE grantee. The KIIs cover the same information across years; however, Year four KIIs will follow up on how the infrastructure and activities taking place in Year two come to fruition.

Employment Needs Focus Groups (FGs): The employment needs FGs will be conducted to gather information about the needs and experiences of employment specialists, consumers, and employers as they relate to supported employment principles and program goals. Data include local program implementation, the adoption of policies and practices for sustainability and scalability, and recommendations for program improvement and implementation best practices. Employment Needs FGs will be conducted with employment specialists and employers (who have and have not participated in the program) virtually using a Web-based platform (such as JoinMe) in years two and four of grant funding. Specific topics are tailored to respondent type.

Employment specialists will discuss training received and techniques used to engage employers, the needs and experiences of clients and employers, facilitators and barriers to program implementation, and program scalability and sustainability. The employment specialist FG will take 90 minutes.

Employers (e.g., hiring managers, supervisors) will discuss experiences and satisfaction with the program, factors that facilitate and pose barriers to their participation, and program scalability and sustainability. The employer FG will take 60 minutes.

The estimated response burden to collect this information associated with the CSE is as follows, annualized over the requested three-year clearance period, as presented below:

Total and Annualized Averages: Respondents, Responses, and Hours
Instrument | Number of respondents | Responses per respondent | Total number of responses | Burden per response (hours) | Annual burden (hours)*
BHTCC Study Instruments
Biannual Program Inventory—BHTCC | 17 | 2 | 34 | 0.75 | 26
System Level Assessment KIIs | 58 | 1 | 58 | 1 | 58
18-Month Abstraction Tool | 19 | 1 | 19 | 5.40 | 102.6
Comparison Study Abstraction Tool (BL) | 2 | 1 | 2 | 7 | 14
Comparison Study Tool (6 Mo) | 2 | 1 | 2 | 7 | 14
Concept Mapping Brainstorm/Sort/Rate | 180 | 1 | 180 | 1 | 180
Concept Mapping Sort/Rate | 115 | 1 | 115 | 0.5 | 58
SE Study Instruments
Biannual Program Inventory—SE | 7 | 2 | 14 | 0.75 | 11
Sustainability/Scalability KIIs | 28 | 1 | 28 | 1 | 28
Employer FG | 28 | 1 | 28 | 1 | 28
Employment Specialist FG | 28 | 1 | 28 | 1.5 | 42
Total | 467 |  | 508 |  | 562
* Rounded to the nearest whole number.

Written comments and recommendations concerning the proposed information collection should be sent by March 31, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-04418 Filed 2-29-16; 8:45 am]

BILLING CODE 4162-20-P